OCCUPATIONAL SAFETY AND HEALTH REVIEW COMMISSION

Privacy Act of 1974; System of Records.

AGENCY: Occupational Safety and Health Review Commission.

ACTION: Rescindment of System of Records Notices.

SUMMARY: In accordance with the Privacy Act of 1974, the Occupational Safety and Health Review Commission (OSHRC) is rescinding the Privacy Act system-of-records notices for following systems of records: Travel Records, OSHRC-1; and Mailing Lists for News Releases, Speeches, Booklets, Reports, OSHRC-2.

DATES: Comments must be received by OSHRC on or before August 15, 2018. The rescindment of OSHRC-1 and OSHRC-2 will become effective on that date, without any further notice in the Federal Register, unless comments or government approval procedures necessitate otherwise.

ADDRESSES: You may submit comments by any of the following methods:

• Email: rbailey@oshrc.gov. Include “PRIVACY ACT SYSTEM OF RECORDS” in the subject line of the message.

• Fax: (202) 606-5417.

• Mail: One Lafayette Centre, 1120 20th Street NW, Ninth Floor, Washington, DC 20036-3457.

• Hand Delivery/Courier: Same as mailing address.

Instructions: All submissions must include your name, return address, and email address, if applicable. Please clearly label submissions as “PRIVACY ACT SYSTEM OF RECORDS.”

FOR FURTHER INFORMATION CONTACT: Ron Bailey, Attorney-Advisor, Office of the General Counsel, via telephone at (202) 606-5410, or via email at rbailey@oshrc.gov.

SUPPLEMENTARY INFORMATION: Following OSHRC's review of its systems of records, the agency is rescinding two of its system-of-records notices: (1) Travel Records, OSHRC-1; and (2) Mailing Lists for News Releases, Speeches, Booklets, Reports, OSHRC-2.

The records included in OSHRC-1 are fully covered by the following Privacy Act notices for governmentwide systems of records: GSA/GOVT-4, see 74 FR 26700, July 6, 2009, and GSA/GOVT-3, see 78 FR 20108, May 3, 2013. OSHRC-1 is therefore being rescinded to avoid duplicative notices.

Additionally, based on a comprehensive review of OSHRC's records, the agency has determined that mailing lists for news releases, speeches, booklets, and reports are no longer maintained by the agency. As this system of records, OSHRC-2, no longer exists, its notice is being rescinded.

The notices rescinding OSHRC-1 and OSHRC-2 are as follows.

OSHRC-1

SYSTEM NAME AND NUMBER:

Travel Records, OSHRC-1.

HISTORY:

April 14, 2006, 71 FR 19556; August 4, 2008, 73 FR 45256; October 5, 2015, 80 FR 60182; and September 28, 2017, 82 FR 45324.

OSHRC-2

SYSTEM NAME AND NUMBER:

Mailing Lists for News Releases, Speeches, Booklets, Reports, OSHRC-2.

HISTORY:

April 14, 2006, 71 FR 19556; August 4, 2008, 73 FR 45256; October 5, 2015, 80 FR 60182; and September 28, 2017, 82 FR 45324.

Dated: July 9, 2018.
Nadine N. Mancini,
General Counsel, Senior Agency Official for Privacy.

[FR Doc. 2018-15069 Filed 7-13-18; 8:45 am]

BILLING CODE 7600-01-P